ENVIRONMENTAL PROTECTION AGENCY

40 CFR Parts 141 and 142

[FRL-9723-9]

Notice of a Public Meeting: Stakeholder Meeting Concerning EPA's Intent To Regulate Perchlorate Levels in Drinking Water

AGENCY: Environmental Protection Agency (EPA).

ACTION: Notice of public meeting.

SUMMARY: The U. S. Environmental Protection Agency (EPA) is holding a public meeting and webcast to share information with the public related to treatment technologies, analytical methods and other information pertaining to the development of a proposed National Primary Drinking Water Regulation for Perchlorate.

DATES: The public meeting and webcast will be held on September 20, 2012 (10 a.m. to 4 p.m., Eastern Time (ET)). Persons wishing to attend the meeting or webcast must register in advance as described in the SUPPLEMENTARY INFORMATION section below.

ADDRESSES: The meeting will be held at EPA, Potomac Yards South, first floor conference room located at 2777 South Crystal Drive, Arlington, VA 22202. A government issued photo ID is required to obtain access to the building.

FOR FURTHER INFORMATION CONTACT: More information on Perchlorate is available at the following Web site: http://water.epa.gov/drink/contaminants/unregulated/perchlorate.cfm. For questions about this specific meeting, contact Russ Perkinson, Office of Ground Water and Drinking Water, U.S. Environmental Protection Agency; telephone (202) 564-4901 or by email to perkinson.russ@epa.gov.

SUPPLEMENTARY INFORMATION: To participate in the in-person meeting, you must register in advance no later than 5 p.m., Eastern Time (ET) on September 17, 2012, by contacting Junie Percy of IntelliTech by email to junie.percy@itsysteminc.com or by phone at (937) 427-4148 ext. 210. Seating for the public is limited and will be available on a first-come, first-served basis for those persons registered.

To participate in the webcast, you must register in advance at the following Web address: https://www3.gotomeeting.com/register/369407742. The number of connections available for the webcast is limited and will be available on a first-come, first-served basis.

During the meeting and webcast, there will be a segment for public questions and input. EPA encourages public input and will allocate time to receive verbal statements on a first-come, first-serve basis. Participants will be provided with a set time frame for their statements. To ensure adequate time for public input, individuals or organizations interested in presenting an oral statement should notify Junie Percy by email at junie.percy@itsysteminc.com no later than 5 p.m., ET on September 17, 2012.

Special Accommodations: To request special accommodations for individuals with disabilities, please contact Junie Percy at (937) 427-4148 ext. 210 or by email to junie.percy@itsysteminc.com. Please allow at least five business days prior to the meeting to allow time to process your request.

Dated: August 23, 2012.
Pamela Barr,
Acting Director, Office of Ground Water and Drinking Water.

[FR Doc. 2012-21480 Filed 8-29-12; 8:45 am]

BILLING CODE 6560-50-P